DEPARTMENT OF DEFENSE

Office of the Secretary

Defense Acquisition University Industry Day: “Better Buying Power” Initiatives

AGENCY: Defense Acquisition University, DoD.

ACTION: Event notice.

SUMMARY: Mrs. Katrina McFarland, President, Defense Acquisition University (DAU), will host a forum to discuss implementation of Better Buying Power: Guidance for Obtaining Greater Efficiency and Productivity in Defense Spending, outlined in the Dr. Ashton B. Carter, Undersecretary of Defense, Acquisition, Technology & Logistics, 14 September 2010 memorandum to acquisition professionals. Name of Event: Defense Acquisition University Industry Day: “Better Buying Power” Initiatives.

DATES: Thursday, April 21, 2011 from 8 a.m.-12:30 p.m.

ADDRESSES: Defense Acquisition University, Howell Auditorium, Bldg. 226, 9820 Belvoir Rd., Fort Belvoir, VA 22060.

FOR FURTHER INFORMATION CONTACT: Christen Goulding, Protocol Director, DAU; Phone: 703-805-5134; Fax: 703-805-3856; E-mail: christen.goulding@dau.mil.

SUPPLEMENTARY INFORMATION:

Purpose of the Event: The purpose of this event is to discuss and dialogue with industry about implementation of the USD(AT&L) memo about better buying power.

Agenda:

8 a.m. Overview of initiatives

9 a.m. Question and answer session

10:30 a.m. Begin individual, 20-minute sessions

Public's Accessibility to the Event: All attendees must be pre-registered to attend the event. Persons desiring to attend can register online at http://www.dau.mil/documents/conference/index.asp

Event Point of Contact: Ms. Christen Goulding, 703-805-5134.

Dated: March 10, 2011.
Morgan F. Park,
Alternate OSD Federal Register Liaison Officer, Department of Defense.

[FR Doc. 2011-6357 Filed 3-17-11; 8:45 am]

BILLING CODE 5001-06-P